DEPARTMENT OF COMMERCE

International Trade Administration

[A-570-863]

Notice of Extension of Time Limit of Final Results of New Shipper Review: Honey from the People's Republic of China

AGENCY: Import Administration, International Trade Administration, Department of Commerce.

ACTION: Notice of Extension of Time Limit of Final Results of Antidumping Duty New Shipper Review.

SUMMARY: The Department of Commerce is extending the time limit of the final results of the new shipper review of the antidumping duty order on honey from the People's Republic of China until no later than October 31, 2003. The period of review is December 1, 2001, through May 31, 2002. This extension is made pursuant to section 751(a)(2)(B)(iv) of the Tariff Act of 1930, as amended.

EFFECTIVE DATE: July 16, 2003.

FOR FURTHER INFORMATION CONTACT: Angelica Mendoza at (202) 482-3019 or Donna Kinsella at (202) 482-0194; Antidumping and Countervailing Duty Enforcement Group III, Office Eight, Import Administration, International Trade Administration, U.S. Department of Commerce, 14th Street and Constitution Avenue NW, Washington, DC 20230.

SUPPLEMENTARY INFORMATION:

Statutory Time Limits

Section 751(a)(2)(B)(iv) of the Act requires the Department to issue the final results of a new shipper review within 90 days after the date on which the preliminary results were issued. However, if the Department determines the issues are extraordinarily complicated, section 751(a)(2)(B)(iv) of the Act allows the Department to extend the deadline for the final results to up to 150 days after the date on which the preliminary results were issued.

Background

On June 25, 2002, the Department received a timely request from Wuhan Bee Healthy Co., Ltd. (Wuhan), in accordance with section 751(a)(2)(B) of the Act and section 351.214(c) of the Department's regulations, for a new shipper review of the antidumping duty order on honey from the People's Republic of China (PRC), which has a December anniversary date, and a June semiannual anniversary date. On August 6, 2002, the Department initiated this new shipper review covering the period December 1, 2001, through May 31, 2002. See Honey From the People's Republic of China: Initiation of New Shipper Antidumping Reviews (67 FR 50862). On January 30, 2003, the Department fully extended the preliminary results of this review by 120 days until May 27, 2003. See Honey from the People's Republic of China: Extension of Time Limits for Preliminary Results of New Shipper Antidumping Duty Review (68 FR 4761). On May 27, 2003, the Department issued its preliminary results of this review. See Notice of Preliminary Results of Antidumping Duty New Shipper Review: Honey from the People's Republic of China, 68 FR 33099 (June 3, 2003). In the preliminary results of this review, we indicated that we had received, but due to time constraints not yet analyzed, additional information from both petitioners and Wuhan.¹ We also indicated in the preliminary results of this review that we intended to carefully analyze all issues pertaining to the bona fides of Wuhan's U.S. sale of honey, and the proper Indian surrogate to value the raw honey input, for the final results of this review.

¹ The American Honey Producers Association and the Sioux Honey Association are petitioners in this proceeding.

Extension of Time Limits for Preliminary Results

Pursuant to section 751(a)(2)(B)(iv) of the Act, the Department may extend the deadline for completion of the final results of a new shipper review by 60 days if it determines that the case is extraordinarily complicated. The Department has determined that this case is extraordinarily complicated because of the issues pertaining to the bona fides of Wuhan's U.S. sale and the proper Indian surrogate to value the raw honey input that must be addressed in the final results. Accordingly, the final results of this new shipper review cannot be completed within the statutory time limit of 90 days. Therefore, in accordance with section 751(a)(2)(B)(iv) of the Act and section 351.214(i)(2) of the regulations, the Department is fully extending the time limit for the completion of final results by an additional 60 days. The final results will now be due no later than October 31, 2003.

This notice is published pursuant to sections 751(a)(2)(B) and 777(i)(1) of the Act.

Dated: July 9, 2003.
Barbara E. Tillman,
Acting Deputy Assistant Secretary for Import Administration, Group III.

[FR Doc. 03-18014 Filed 7-15-03; 8:45 am]

BILLING CODE 3510-DS-S